DEPARTMENT OF ENERGY

Federal Energy Regulatory Commission

Notice of Application Accepted for Filing and Soliciting Motions To Intervene and Protest

February 13, 2001.

Take notice that the following hydroelectric application has been filed with the Commission and is available for public inspection:

a. Type of Application: New Major License.

b. Project No.: 184-065.

c. Date filed: February 22, 2000.

d. Applicant: El Dorado Irrigation District.

e. Name of Project: El Dorado Project.

f. Location: Located on the South Fork of the American River and its tributaries in the counties of El Dorado, Alpine, and Amador, California, partially within the boundaries of the Eldorado National Forest. The project also diverts about 1,900 acre-feet of water from lower Echo Lake in the upper Truckee River Basin.

g. Filed Pursuant to: Federal Power Act, 16 U.S.C. 791(a)-825(r).

h. Applicant Contact: William Wilkins, General Manager, El Dorado Irrigation District, 2890 Mosquito Road, Placerville, CA 95667-4700. Telephone (530) 622-4513.

i. Commission Contact: Any questions concerning this notice should be addressed to John Mudre, e-mail address john.mudre@ferc.fed.us, or telephone (202) 219-1208.

j. Deadline for filing motions to intervene and protest: 60 days from the issuance date of this notice.

All documents (original and eight copies) should be filed with: David P. Boergers, Secretary, Federal Energy Regulatory Commission, 888 First Street, NE., Washington, DC 20426. Please include the project number (Project No. 184-065) on any comments or motions filed. Comments and protests may be filed electronically via the internet in lieu of paper. See, 18 CFR 385.2001(a)(1)(iii) and the instructions on the Commission's web site at http://www.ferc.fed.us/efi/doorbell.htm.

The Commission's Rules of Practice and Procedure require all interveners filing documents with the Commission to serve a copy of that document on each person whose name appears on the official service list for the project. Further, if any intervener files comments or documents with the Commission relating to the merits of an issue that may affect the responsibilities of a particular resource agency, they must also serve a copy of the document on that resource agency.

k. This application is not ready for environmental analysis at this time.

l. The project consists of the following existing facilities: (1) A 113-foot-long, 20-foot-high rubble and masonry main dam with a crest elevation of 8,210 feet mean sea level (msl) and 11 auxilliary dams, impounding Lake Aloha, a reservoir that covers 590 acres (at full pond) with a usable storage of 5,179 acre-feet; (2) a 320-foot-long, 14-foot-high roller-compacted concrete dam with a crest elevation of 7,413 feet msl, impounding lower Echo Lake, a reservoir that covers 335 acres (at full pond) with a usable storage of 1,900 acre-feet; (3) a 6,125-foot-long conduit from lower Echo Lake to the South Fork of the American River; (4) a 1,200-foot-long, 84.5-feet-high gunite-core earthfill main dam with a crest elevation of 7,959.5 feet msl and one auxiliary dam, impounding Cables Lake, a reservoir that covers 624 acres (at full pond) with a usable storage of 22,490 acre-feet; (5) a 280-foot-long, 30-foot-high rock and earthfill dam with a crest elevation of 7,261 feet msl, impounding Silver Lake, a reservoir that covers 502 acres (at full pond) with usable storage of 13,280 acre-feet; (6) a 160-foot-long, 15-foot-high rockfill reinforced binwall diversion dam with a crest elevation of 3,910.5 feet msl, impounding 200 acre-feet of the South Fork of the American River; (7) a 22.3-mile-long conveyance from the diversion dam to the forebay; (8) a 70-foot-long, 9.5-foot-high concrete diversion dam with a crest elevation of 4,007 feet msl on Alder Creek; (9) six small creeks that divert into the conveyance—Mill Creek, Bull Creek, Carpenter Creek, Ogilby Creek, Esmeralda Creek and an unnamed creek; (10) a 836-foot-long, 91-foot-high earthfill forebay dam with a crest elevation of 3,804 feet msl, a reservoir that covers 23 acres (at full pond) with a usable storage of 356-acre-feet; (11) a 2.8-mile combination pipeline and penstock conveyance, with surge tank, from the forebay to the powerhouse; (12) a 110-foot-long by 40-foot-wide steel frame powerhouse with reinforced concrete walls and an installed capacity of 21,000 kilowatts, producing about 106 gigawatt-hours annually when operational; and (13) other appurtenances. Project components occupy federal lands administered by the Eldorado National Forest. No transmission lines are included with the project.

m. A copy of the application is available for inspection and reproduction at the Commission's Public Reference Room, located at 888 First Street, NE., Room 2A, Washington, DC 20426, or by calling (202) 208-1371. The application may be viewed on the web at http://rimsweb1.ferc.fed.us/rims. Call (202) 208-2222 for assistance. A copy is also available for inspection and reproduction at the address in item h above.

n. Individuals desiring to be included on the Commission's mailing list should so indicate by writing to the Secretary of the Commission.

Anyone may submit a protest or a motion to intervene in accordance with the requirements of Rules and Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filing must: (1) Bear in all capital letters the title “PROTEST” or “MOTION TO INTERVENE;” (2) set forth in the heading the name of the applicant and the project number of the application to whic the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Linwood A. Watson, Jr.,
Acting Secretary.

[FR Doc. 01-4071 Filed 2-16-01; 8:45 am]

BILLING CODE 6717-01-M